DEPARTMENT OF VETERANS AFFAIRS

Advisory Committee on the Readjustment of Veterans, Notice of Meeting

The Department of Veterans Affairs (VA) gives notice under the Federal Advisory Committee Act, 5 U.S.C. ch. 10., that the Advisory Committee on the Readjustment of Veterans will meet virtually on March 6, 2025. The meeting will begin and end as follows, and is open to the public:

Dates: | Times: | Locations: | Open session:
March 6, 2025 | 1:00 p.m. to 3:00 p.m. Eastern Standard Time (EST) | Via Microsoft Teams link shown below | Yes.

The meeting session is open to the public.

The purpose of the Committee is to advise the VA regarding the provision by VA of benefits and services to assist Veterans in the readjustment to civilian life. The Committee, comprised of 13 subject matter experts, advises the Secretary through the VA Readjustment Counseling Service. In carrying out this duty, the Committee shall take into account the needs of Veterans who served in combat theaters of operation.

On March 6, 2025, the Committee will meet to review and vote on the 25th report, review the calendar forecast, and discuss the location and subject matter experts to consider presenting at the next full committee meeting. The Committee will meet from 1:00 p.m. to 3:00 p.m. EST.

Time will be allotted for the public to provide comments starting at 2:30 p.m. EST and ending no later than 3:00 p.m. EST. The comment period may end sooner if no comments are presented or they are exhausted before the end time. Individuals interested in providing comments during the public comment period are allowed no more than three minutes for their statements. Additionally, the Committee will accept written comments from interested parties on issues outlined in the meeting agenda or other issues regarding the readjustment of Veterans. Parties should contact Mr. Joshua Mathis via email at Joshua.Mathis@va.gov or by mail at Department of Veterans Affairs, Readjustment Counseling Service (10RCS), 810 Vermont Avenue, Washington, DC 20420.

Any member of the public seeking additional information should contact Mr. Mathis at the email address noted above.

Join On Your Computer or Mobile App:

March 6, 2025

https://teams.microsoft.com/l/meetup-join/19%3ameeting_MDI1ZDExYTgtYzU4ZS00YzBlLWI2MDktNjY2N2U1MzlkMGFj%40thread.v2/0?context=%7b%22Tid%22%3a%22e95f1b23-abaf-45ee-821d-b7ab251ab3bf%22%2c%22Oid%22%3a%223370e162-17c2-4423-8174-023497fa6815%22%7d.

You can dial in by phone at 1-872-701-0185 and use the access code 239 240 682#.

Dated: February 3, 2025.
Jelessa M. Burney,
Federal Advisory Committee Management Officer.

[FR Doc. 2025-02300 Filed 2-5-25; 8:45 am]

BILLING CODE 8320-01-P